DEPARTMENT OF THE INTERIOR

Fish and Wildlife Service

Endangered and Threatened Wildlife and Plants; Initiation of 5-Year Reviews of the Mariana Fruit Bat (Pteropus mariannus mariannus), Mariana Crow (Corvus hawaiiensis), Laysan Duck (Anas laysanensis), Kauai Akialoa (Honeycreeper) (Hemignathus procerus), Large Kauai Thrush (Myadestes myadestinus), Kauai Oo (Honeyeater) (Moho braccatus), Ou (Honeycreeper) (Psittirostra psittace), Molokai Creeper (Paroreomyza flammea), Molokai Thrush (Myadestes lanaiensis rutha), Kauai Cave Wolf Spider (Adelocosa anops) Kauai Cave Amphipod (Spelaeorchestia koloana), Alsinidendron obovatum (No Common Name), Amaranthus brownii (No Common Name), Chamaesyce celastroides var. kaenana (Akoko), Chamaesyce deppeana (Akoko), Chamaesyce herbstii (Akoko), Chamaesyce skottsbergii var. kalaeloana (Ewa Plains Akoko), Clermontia pyrularia (Oha Wai), Cyanea grimesiana ssp. obatae (No Common Name), Cyanea pinnatifida (Haha), Cyanea st.-johnii (Haha), Cyanea superba (Haha), Cyanea truncata (Haha), Cyrtandra dentate (Haiwale), Gouania vitifolia (No Common Name), Hedyotis degeneri (No Common Name), Hibiscadelphus woodii (Hau Kuahiwi), Castilleja levisecta (Golden paintbrush), Fender's Blue Butterfly (Icaricia icarioides fenderi), Erigeron decumbens var. decumbens (Willamette Daisy), Lupinus sulphureus ssp. kincaidii (Kincaid's Lupine), Lomatium bradshawii (Bradshaw's Desert Parsley), and Sidalcea nelsoniana (Nelson's Checker-mallow)

AGENCY: Fish and Wildlife Service, Interior.

ACTION: Notice of review.

SUMMARY: We, the U.S. Fish and Wildlife Service (Service), announce the initiation of a 5-year review of 33 species listed in Table 1 below, under section 4(c)(2)(B) of the Endangered Species Act (Act). The purpose of a 5-year review is to ensure that the classification of a species as threatened or endangered on the List of Endangered and Threatened Wildlife and Plants is accurate and consistent with the best scientific and commercial data available at the time of the review. We are requesting submission of any such information that has become available since the original listing of each of these 33 species. Based on the results of these 5-year reviews, we will consider whether the status of the species should be changed, pursuant to section 4(c)(2)(B) of the Act.

BILLING CODE 4310-55-P

BILLING CODE 4310-55-C

DATES: To allow us adequate time to conduct these reviews, we must receive your information no later than September 6, 2005. However, we will continue to accept new information about any listed species at any time.

ADDRESSES: Information may be submitted to the following Service Fish and Wildlife Offices:

For the Mariana fruit bat, Mariana crow, Laysan duck, Kauai akialoa (honeycreeper), large Kauai thrush, Kauai oo (honeyeater), ou (honeycreeper), Molokai creeper, Molokai thrush, Kauai cave wolf spider, Kauai cave amphipod, Alsinidendron obovatum, Amaranthus brownii, Chamaesyce celastroides var. kaenana, Chamaesyce deppeana, Chamaesyce herbstii, Chamaesyce skottsbergii var. kalaeloana, Clermontia pyrularia, Cyanea grimesiana ssp. obatae, Cyanea pinnatifida, Cyanea st.-johnii, Cyanea superba, Cyanea truncata, Cyrtandra dentata, Gouania vitifolia, Hedyotis degeneri, and Hibiscadelphus woodii, submit comments to the Field Supervisor, Attention: 5-Year Review, U.S. Fish and Wildlife Service, Pacific Islands Fish and Wildlife Office, 300 Ala Moana Boulevard, Room 3-122, Box 50088, Honolulu, Hawaii 96850. Information may also be submitted electronically at pifwo-5yr-review@fws.gov.

For Castilleja levisecta, submit comments to the Field Supervisor, Attention: 5-Year Review, U.S. Fish and Wildlife Service, Western Washington Fish and Wildlife Office, 510 Desmond Drive SE., Suite 102, Lacey, Washington 98503-1273. Information may also be submitted electronically at goldenpaintbrush@fws.gov.

For the Fender's blue butterfly, Erigeron decumbens var. decumbens, Lupinus sulphureus ssp. kincaidii, Lomatium bradshawii, and Sidalcea nelsoniana, submit comments to the Field Supervisor, Attention: 5-Year Review, U.S. Fish and Wildlife Service, Oregon Fish and Wildlife Office, 2600 SE. 98th Avenue, Suite 100, Portland, Oregon 97266. Information may also be submitted electronically at FW1OR5yearReview@fws.gov.

Information received in response to this notice will be available for public inspection, by appointment, during normal business hours, at the appropriate above-named Service Fish and Wildlife Offices.

FOR FURTHER INFORMATION CONTACT: For the Mariana fruit bat, Mariana crow, Laysan duck, Kauai akialoa (honeycreeper), large Kauai thrush, Kauai oo (honeyeater), ou (honeycreeper), Molokai creeper, Molokai thrush, Kauai cave wolf spider, Kauai cave amphipod, Alsinidendron obovatum, Amaranthus brownii, Chamaesyce celastroides var. kaenana, Chamaesyce deppeana, Chamaesyce herbstii, Chamaesyce skottsbergii var. kalaeloana, Clermontia pyrularia, Cyanea grimesiana ssp. obatae, Cyanea pinnatifida, Cyanea st.-johnii, Cyanea superba, Cyanea truncata, Cyrtandra dentata, Gouania vitifolia, Hedyotis degeneri, and Hibiscadelphus woodii, contact Gina Shultz at the Pacific Islands Fish and Wildlife Office at (808) 792-9400. For Castilleja levisecta, contact Ted Thomas at the Western Washington Fish and Wildlife Office at (360) 753-9440. For the Fender's blue butterfly, Erigeron decumbens var. decumbens, Lupinus sulphureus ssp. kincaidii, Lomatium bradshawii, and Sidalcea nelsoniana, contact Rollie White at the Oregon Fish and Wildlife Office at (503) 231-6179.

SUPPLEMENTARY INFORMATION:

Why Is a 5-Year Review Conducted?

Under the Act (16 U.S.C. 1531 et seq.) we maintain a List of Endangered and Threatened Wildlife and Plants (List) at 50 CFR 17.11 (for animals) and 17.12 (for plants). Section 4(c)(2)(A) of the Act requires that we conduct a review of listed species at least once every 5 years. Then, on the basis of such reviews under section 4(c)(2)(B), we determine whether or not any species should be removed from the List (delisted), or reclassified from endangered to threatened or from threatened to endangered. Delisting a species must be supported by the best scientific and commercial data available and only considered if such data substantiates that the species is neither endangered nor threatened for one or more of the following reasons: (1) The species is considered extinct; (2) the species is considered to be recovered; and/or (3) the original data available when the species was listed, or the interpretation of such data, were in error. Any change in Federal classification would require a separate rulemaking process. The regulations in 50 CFR 424.21 require that we publish a notice in the Federal Register announcing those species currently under active review. This notice announces our active review of 33 species listed in Table 1 above.

What Information Is Considered in the Review?

A 5-year review considers all new information available at the time of the review. These reviews will consider the best scientific and commercial data that has become available since the current listing determination or most recent status review, such as:

A. Species biology including, but not limited to, population trends, distribution, abundance, demographics, and genetics;

B. Habitat conditions including, but not limited to, amount, distribution, and suitability;

C. Conservation measures that have been implemented that benefit the species;

D. Threat status and trends (see five factors under heading “How Do We Determine Whether a Species is Endangered or Threatened?”); and

E. Other new information, data, or corrections including, but not limited to, taxonomic or nomenclatural changes, identification of erroneous information contained in the List, and improved analytical methods.

How Do We Determine Whether a Species Is Endangered or Threatened?

Section 4(a)(1) of the Act requires that we determine whether a species is endangered or threatened based on one or more of the five following factors:

A. The present or threatened destruction, modification, or curtailment of its habitat or range;

B. Overutilization for commercial, recreational, scientific, or educational purposes;

C. Disease or predation;

D. The inadequacy of existing regulatory mechanisms; or

E. Other natural or manmade factors affecting its continued existence.

Our assessment of these factors is required, under section 4(b)(1) of the Act, to be based solely on the best scientific and commercial data available.

What Could Happen as a Result of This Review?

If we find that there is information concerning the 33 species listed in Table 1 above indicating a change in classification may be warranted, we may propose a new rule that could do one of the following: (a) Reclassify the species from threatened to endangered; (b) reclassify the species from endangered to threatened; or (c) remove the species from the List. If we find that a change in classification is not warranted, the species will remain on the List under its current status.

Public Solicitation of New Information

To ensure that these 5-year reviews are complete and based on the best available scientific and commercial information, we are soliciting new information from the public, concerned governmental agencies, Tribes, the scientific community, industry, environmental entities, and any other interested parties concerning the status of the 33 species listed in Table 1 above.

If you wish to provide information for any species included in these 5-year reviews, you may submit your comments and materials to the Field Supervisors at the appropriate Service Fish and Wildlife Office in the ADDRESSES section above. Our practice is to make comments, including names and home addresses of respondents, available for public review during regular business hours. Respondents may request that we withhold a respondent's identity, as allowable by law. If you wish us to withhold your name or address, you must state this request prominently at the beginning of your comment. To the extent consistent with applicable law, we will make all submissions from organizations or businesses, and from individuals identifying themselves as representatives or officials of organizations or businesses, available for public inspection in their entirety. Comments and materials received will be available for public inspection, by appointment, during normal business hours (see ADDRESSES section).

Authority: This document is published under the authority of the Endangered Species Act of 1973, as amended (16 U.S.C. 1531 et seq.).

Dated: June 15, 2005.
David J. Wesley,
Regional Director, Region 1, U.S. Fish and Wildlife Service.

[FR Doc. 05-13219 Filed 7-5-05; 8:45 am]

BILLING CODE 4310-55-P